DEPARTMENT OF AGRICULTURE

National Institute of Food and Agriculture

Notice of Intent To Request Approval To Establish a New Information Collection

AGENCY: National Institute of Food and Agriculture, USDA.

ACTION: Notice and request for comments.

SUMMARY: In accordance with the Paperwork Reduction Act of 1995 and Office of Management and Budget (OMB) regulations, this notice announces the National Institute of Food and Agriculture (NIFA) intention to request approval to establish a new information collection for the NIFA Division of Community and Education.

DATES: Written comments on this notice must be received by May 8, 2012, to be assured of consideration. Comments received after that date will be considered to the extent practicable.

ADDRESSES: Written comments concerning this notice and requests for copies of the information collection may be submitted by any of the following methods: Email: gmendez@nifa.usda.gov; Fax: 202-720-0857; Mail: Office of Information Technology (OIT), NIFA, USDA, STOP 2216, 1400 Independence Avenue SW., Washington, DC 20250-2216.

FOR FURTHER INFORMATION CONTACT: Gidel Mendez, eGovernment Program Leader; Email: gmendez@nifa.usda.gov.

SUPPLEMENTARY INFORMATION:

Title: Division of Community and Education Project Output Tracking Questionnaires.

OMB Number: 0524-XXXX.

Type of Request: Intent to request approval to establish a new information collection system for three years.

Abstract: The Division of Community and Education (DOCE) at the National Institute of Food and Agriculture (NIFA) houses grant programs that are responsible for awarding funds to secondary and postsecondary institutions to support a variety of activities including curriculum development, faculty development, experiential learning activities, and scientific instrumentation, among others. In order to improve federal program effectiveness and public accountability, DOCE will create questionnaires that will ask project directors to quantitatively report on the activities they use for their project and the outputs that are produced from the money.

Need and Use of the Information: Per the Government Performance and Results Act of 1993, agencies are expected to provide adequate oversight and eliminate waste and inefficiency in federal programs. These questionnaires will help to do this in two ways: 1. They will provide transparency in the way in which federal money is spent; and 2. They will help to inform and guide programmatic priorities.

The information collected by these questionnaires will be able to be aggregated across the division, creating a clear picture of how the money was spent and the outputs that resulted without identifying specific project directors or institutions. This aggregated information can be summarized, and presented to stakeholders, as well as be used to respond to congressional inquiries.

In addition, trends and patterns in the way in which money was spent will be evident. National Program Leaders will be able to determine how much grant money went toward specific grant activities in a given year. They may be able to use this information to adjust programmatic priorities for the following fiscal year if projects addressing particular grant activities are disproportionately funded.

The information collected from the questionnaire will provide a more comprehensive and accurate assessment of national program outputs. Currently, project directors are required to complete Current Research Information System (CRIS) reports annually, as well as a final report. There are no specific guidelines for the CRIS reports, and as a result, the reports often do not contain quantitative information relevant to project and program goals. CRIS reports do, however, provide important descriptive information, but standardized information at the division level is needed to augment these reports.

Estimate of Burden: DOCE estimates that an average of 20 minutes is required to complete the questionnaire and supplemental questionnaire with respect to each award. DOCE estimates that it makes approximately 300 awards each year, which means that there are 300 Project Directors that must complete these questionnaires annually. Therefore, the total annual burden on Project Directors is 100 hours.

Comments are invited on: (a) Whether the proposed collection of information is necessary for the proper performance of the functions of the Agency, including whether the information will have practical utility; (b) the accuracy of the Agency's estimate of the burden of the proposed collection of information; (c) ways to enhance the quality, utility and clarity of the information to be collected; and (d) ways to minimize the burden of the collection of information on those who are to respond, including through the use of appropriate automated, electronic, mechanical, or other technological collection techniques or other forms of information technology.

All responses to this notice will be summarized and included in the request to OMB for approval. All comments will become a matter of public record.

Done in Washington, DC, March 1, 2012.
Catherine E. Woteki,
Under Secretary, Research, Education, and Economics.

[FR Doc. 2012-5796 Filed 3-8-12; 8:45 am]

BILLING CODE 3410-22-P